FEDERAL COMMUNICATIONS COMMISSION

47 CFR Part 73

[DA 01-1293]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

DATES: Effective June 8, 2001.

FOR FURTHER INFORMATION CONTACT: Kathleen Scheuerle, Mass Media Bureau, (202) 418-2180.

SUPPLEMENTARY INFORMATION: This is a summary of the Commission's Report and Order, adopted May 16, 2001, and released May 25, 2001. The full text of this Commission decision is available for inspection and copying during normal business hours in the Commission's Reference Center, 445 12th Street, SW., Washington, DC. The complete text of this decision may also be purchased from the Commission's copy contractors, International Transcription Service, Inc., 1231 20th Street, NW., Washington, DC 20036, (202) 857-3800, facsimile (202) 857-3805.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Alabama, is amended by removing Channel 286C and adding Channel 286C3 at Albertville.

3. Section 73.202(b), the Table of FM Allotments under Arizona, is amended by removing Channel 255C and adding Channel 255A at Leupp.

4. Section 73.202(b), the Table of FM Allotments under Delaware, is amended by removing Channel 250A and adding Channel 251A at Selbyville.

5. Section 73.202(b), the Table of FM Allotments under Florida, is amended by removing Channel 272A and adding Channel 274A at Blountstown and by removing Channel 274A and adding Channel 274C3 at Blountstown.¹

¹ On April 22, 1999, the authorization for Channel 272A, Blountstown, Florida, was amended by a one-step application to specify Channel 274A in lieu of Channel 272A. However, that change was not published in the Federal Register and the FM Table of Allotments was not corrected to reflect the channel change. We take this opportunity to correct the FM Table of Allotments with respect to Blountstown.

6. Section 73.202(b), the Table of FM Allotments under Georgia, is amended by removing Channel 300C3 and adding Channel 300C2 at Valdosta.

7. Section 73.202(b), the Table of FM Allotments under Michigan, is amended by removing Channel 264A and adding Channel 264C1 at Crystal Falls.

8. Section 73.202(b), the Table of FM Allotments under Nebraska, is amended by removing Channel 292C2 and adding Channel 292C1 at Lincoln.

9. Section 73.202(b), the Table of FM Allotments under Nevada, is amended by removing Channel 262A and adding Channel 261C at Beatty.

10. Section 73.202(b), the Table of FM Allotments under New Mexico, is amended by removing Channel 272C3 and adding Channel 272C1 at Clovis.

11. Section 73.202(b), the Table of FM Allotments under Vermont, is amended by removing Channel 233C3 and adding Channel 233A at Rutland.

12. Section 73.202(b), the Table of FM Allotments under Garapan, Saipan, is amended by adding Channel 250C1 at Garapan, Saipan.

Federal Communications Commission.
John A. Karousos,
Chief, Allocations Branch, Policy and Rules Division, Mass Media Bureau.

[FR Doc. 01-14524 Filed 6-7-01; 8:45 am]

BILLING CODE 6712-01-U